COMMITTEE FOR PURCHASE FROM PEOPLE WHO ARE BLIND OR SEVERELY DISABLED

Procurement List; Proposed Deletions

AGENCY: Committee for Purchase From People Who Are Blind or Severely Disabled.

ACTION: Proposed Deletions from the Procurement List.

SUMMARY: The Committee is proposing to delete a product and a service previously furnished by nonprofit agencies employing persons who are blind or have other severe disabilities.

DATES: Comments Must Be Received on or Before: 9/29/2014.

ADDRESSES: Committee for Purchase From People Who Are Blind or Severely Disabled, 1401 S. Clark Street, Suite 10800, Arlington, Virginia, 22202-4149.

For Further Information or to Submit Comments Contact: Barry S. Lineback, Telephone: (703) 603-7740, Fax: (703) 603-0655, or email CMTEFedReg@AbilityOne.gov.

SUPPLEMENTARY INFORMATION: This notice is published pursuant to 41 U.S.C. 8503 (a)(2) and 41 CFR 51-2.3. Its purpose is to provide interested persons an opportunity to submit comments on the proposed actions.

Deletions

The following product and service are proposed for deletion from the Procurement List:

Product

NSN: 5340-00-410-2296—Cover, Fire Extinguisher.

NPA: Huntsville Rehabilitation Foundation, Huntsville, AL.

Contracting Activity: Defense Logistics Agency Troop Support, Philadelphia, PA.

Service

Service Type/Location: Catering Service, Military Entrance Processing Station, Leo O'Brien Federal Building, Suite 810, Albany, NY,

NPA: Albany County Chapter, NYSARC, Inc., Slingerlands, NY.

Contracting Activity: Dept of the Army, W6QM MICC Ctr-Ft Knox, Ft Knox, KY.

Barry S. Lineback,
Director, Business Operations.

[FR Doc. 2014-20574 Filed 8-28-14; 8:45 am]

BILLING CODE 6353-01-P